SMALL BUSINESS ADMINISTRATION

Declaration of Disaster #3624; State of Alabama (Amendment #1)

In accordance with a notice received from the Department of Homeland Security—Federal Emergency Management Agency—effective September 23, 2004, the above numbered declaration is hereby amended to include Autauga, Barbour, Bibb, Blount, Bullock, Calhoun, Chilton, Choctaw, Clay, Coosa, Cullman, Dallas, Dale, Elmore, Etowah, Fayette, Franklin, Greene, Hale, Jefferson, Lamar, Lawrence, Lee, Lowndes, Macon, Marengo, Marshall, Marion, Montgomery, Perry, Pickens, Pike, Shelby, St. Clair, Sumter, Talladega, Tallapoosa, Tuscaloosa, Walker, Wilcox, and Winston as disaster areas due to damages caused by Hurricane Ivan occurring on September 13, 2004 and continuing.

In addition, applications for economic injury loans from small businesses located in the contiguous counties of Chambers, Cherokee, Cleburne, Colbert, DeKalb, Henry, Jackson, Lauderdale, Limestone, Madison, Morgan, Randolph, and Russell in the State of Alabama; Clay, Harris, Muscogee, Quitman, and Stewart in the State of Georgia; and Clarke, Itawamba, Kemper, Lauderdale, Lowndes, Monroe, Noxubee, and Tishomingo in the State of Mississippi may be filed until the specified date at the previously designated location. All other counties contiguous to the above named primary counties have previously been declared.

The economic injury number assigned to Georgia is 9AA500.

All other information remains the same, i.e., the deadline for filing applications for physical damage is November 15, 2004 and for economic injury the deadline is June 15, 2005.

(Catalog of Federal Domestic Assistance Program Nos. 59002 and 59008)

Dated: September 27, 2004.
Herbert L. Mitchell,
Associate Administrator for Disaster Assistance.

[FR Doc. 04-22291 Filed 10-4-04; 8:45 am]

BILLING CODE 8025-01-P